INTERNATIONAL BOUNDARY AND WATER COMMISSION, UNITED STATES AND MEXICO

United States Section; Notice of Availability of the Final Programmatic Environmental Impact Statement, Improvements to the USIBWC Tijuana River Flood Control Project

AGENCY: United States Section, International Boundary and Water Commission (USIBWC).

ACTION: Notice of availability of Final Programmatic Environmental Impact Statement.

SUMMARY: Pursuant to section 102(2)(c) of the National Environmental Policy Act (NEPA) of 1969, as amended, the United States Section, International Boundary and Water Commission (USIBWC) has prepared a Final Programmatic Environmental Impact Statement (Final PEIS) for future improvements to the Tijuana River Flood Control Project in southern San Diego County. The Draft PEIS, prepared in cooperation with the Los Angeles District, United States Army Corps of Engineers, analyzes potential effects of the No Action Alternative and a Multi-purpose Project Management Alternative.

Because improvement measures under consideration are at a conceptual level of development, the USIBWC has taken a broad programmatic look at the environmental implications of their implementation. The USIBWC will apply the programmatic evaluation as an overall guidance for environmental evaluations of future individual improvement projects developed for implementation. Once any given project is identified for implementation, site-specific environmental documentation will be developed based on project specifications and PEIS findings.

DATES: The Final PEIS will be available to agencies, organizations and the general public on May 14, 2008. A copy of the Final PEIS will also be posted in the USIBWC Web site at http://www.ibwc.gov.

FOR FURTHER INFORMATION CONTACT: Mr. Daniel Borunda, Environmental Protection Specialist, Environmental Management Division, USIBWC, 4171 North Mesa Street, C-100, El Paso, Texas 79902 or e-mail: danielborunda@ibwc.gov.

SUPPLEMENTARY INFORMATION: The Final PEIS analyzes potential effects of the No Action Alternative and a Multi-purpose Project Management (MPM) Alternative for potential environmental improvements to the Tijuana River FCP. Potential improvements incorporated into the MPM Alternative took into consideration measures for modified management of the floodway, and environmental measures supporting initiatives by federal agencies, local governments, and other organizations conducted, largely, under cooperative agreements. The No Action and MPM alternatives were evaluated in terms of their potential effects on water, biological, cultural and socioeconomic resources, land use, and environmental health issues.

Based on the impact analysis, the USIBWC selected the MPM Alternative as the preferred option for improvements to Tijuana River FCP. The MPM Alternative incorporates measures for habitat development and water quality, and is consistent with the core project mission of flood control. Public participation in the PEIS development included a 45-day review period of the Draft PEIS, and a Public Hearing held in the City of Imperial Beach, California on August 30, 2007. Copies of the Final PEIS have been filed with USEPA in accordance with 40 CFR parts 1500-1508 and USIBWC procedures. A Record of Decision on the PEIS alternative selection is anticipated 30 days following the Final PEIS publication date.

Dated: May 7, 2008.
Susan E. Daniel,
Legal Counsel.

[FR Doc. E8-10686 Filed 5-13-08; 8:45 am]

BILLING CODE 7010-01-P